DEPARTMENT OF AGRICULTURE

Rural Utilities Service

7 CFR Part 1734

RIN 0572-AC37

Distance Learning and Telemedicine Grant Program

AGENCY: Rural Utilities Service, USDA.

ACTION: Final rule; affirmation.

SUMMARY: The Rural Utilities Service (RUS), a Rural Development agency of the United States Department of Agriculture (USDA), hereinafter referred to as RUS or the Agency, is confirming the final rule published in the Federal Register on November 27, 2017, which amends its regulation for the Distance Learning and Telemedicine Grant Program.

DATES: Effective March 9, 2018.

FOR FURTHER INFORMATION CONTACT: Kenneth Kuchno, Deputy Assistant Administrator, Policy and Outreach Division, Telecommunications Program, Rural Utilities Program, U.S. Department of Agriculture, 1400 Independence Avenue SW, STOP 1599, Room 2870-S, Washington, DC 20250-1550. Telephone number: (202) 690-4673.

SUPPLEMENTARY INFORMATION: The Rural Utilities Service (RUS), has issued a final rule to streamline, revise, and update the Distance Learning and Telemedicine (DLT) Grant Program, to minimize the burden of applying for and awarding grants (82 FR 55923; Nov. 27, 2017). The Agency's goal is to reduce the regulatory burden on grant applicants and to ensure that grant funds are awarded for projects with the most demonstrable need.

RUS invited comments regarding the new procedures for implementing the DLT Grant Program and received comments from: The Choctaw Nation of Oklahoma; Herzing University; and Ms. Kayla Boylen. These comments and the Agency's responses are summarized as follows:

General Support for the Changes to the Distance Learning and Telemedicine Program (DLT)

Comment: Respondents commented that they were in support of the Program and that the Program is needed in rural America.

Twenty Percent Funding Cap for Broadband Facilities

Comment: One respondent commented that they were in support of adding broadband facilities as an eligible project, however, there was concern that twenty percent of the requested grant amount for this purpose was not sufficient.

Response: It should be noted that the DLT Program is not intended to provide residential/business broadband service. RUS has other loan and grant programs for this purpose. Broadband facilities have been added to the DLT program to ensure that rural schools and medical facilities that currently do not have broadband service have a means to bring distance learning and telemedicine to those facilities. All broadband facilities funded under this program must be used to deliver distance learning and telemedicine.

Fifteen Percent Matching Fund Requirement

Comment: One respondent commented that due to the economic nature of areas eligible for the DLT Program that there should be no matching funds requirement.

Response: For projects to become successful, it is imperative that all parties involved are both financially and non-financially vested, and that the success of the project is not dependent entirely on the grant funding. Additionally, a matching fund component also allows RUS to leverage the limited grant funding received and to fund more projects. A fifteen percent matching fund requirement is a reasonable amount and demonstrates the sincerity of the applicant to make the proposed project a success.

Better Communications

Comment: One commenter suggested that outreach efforts be improved to better communicate the changes to the application scoring criteria as well as the program's eligibility requirements.

Response: RUS has and continues to be mindful of communicating timely information about its programs. The Agency plans to introduce a series of webinars which will address all of the recent changes to the Program as well as other program requirements, criteria, and issues. The webinars will be scheduled on different days and times to accommodate the varying schedules of potential applicants across the country.

The Agency appreciates the interest of the commenters and thanks them for their comment submissions.

Dated: February 16, 2018.
Christopher McLean,
Acting Administrator, Rural Utilities Service.

[FR Doc. 2018-04659 Filed 3-8-18; 8:45 am]

BILLING CODE P